DEPARTMENT OF VETERANS AFFAIRS

[OMB Control No. 2900-0101]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before April 26, 2002.

FOR FURTHER INFORMATION OR A COPY OF THE SUBMISSION CONTACT: Denise McLamb, Information Management Service (045A4), Department of Veterans Affairs, 810 Vermont Avenue, NW., Washington, DC 20420, (202) 273-8030, FAX (202) 273-5981 or e-mail: denise.mclamb@mail.va.gov. Please refer to “OMB Control No. 2900-0101.”

Send comments and recommendations concerning any aspect of the information collection to VA's OMB Desk Officer, OMB Human Resources and Housing Branch, New Executive Office Building, Room 10235, Washington, DC 20503 (202) 395-7316. Please refer to “OMB Control No. 2900-0101” in any correspondence.

SUPPLEMENTARY INFORMATION:

Titles: Eligibility Verification Reports

a. Eligibility Verification Report Instructions, VA Form 21-0510.

b. Old Law Eligibility Verification Report (Surviving Spouse), VA Form 21-0511S.

c. Old Law Eligibility Verification Report (Surviving Spouse), VA Form 21-0511S-1.

d. Old Law Eligibility Verification Report (Veteran), VA Form 21-0511V.

e. Old Law Eligibility Verification Report (Veteran), VA Form 21-0511V-1.

f. Section 306 Eligibility Verification Report (Surviving Spouse), VA Form 21-0512S.

g. Section 306 Eligibility Verification Report (Surviving Spouse), VA Form 21-0512S-1.

h. Section 306 Eligibility Verification Report (Veteran), VA Form 21-0512V.

i. Section 306 Eligibility Verification Report (Veteran), VA Form 21-0512V-1.

j. Old Law and Section 306 Eligibility Verification Report (Children Only), VA Form 21-0513.

k. Old Law and Section 306 Eligibility Verification Report (Children Only), VA Form 21-0513-1.

l. DIC Parent's Eligibility Verification Report, VA Form 21-0514.

m. DIC Parent's Eligibility Verification Report, VA Form 21-0514-1.

n. Improved Pension Eligibility Verification Report (Veteran With No Children), VA Form 21-0516.

o. Improved Pension Eligibility Verification Report (Veteran With No Children), VA Form 21-0516-1.

p. Improved Pension Eligibility Verification Report (Veteran With Children), VA Form 21-0517.

q. Improved Pension Eligibility Verification Report (Veteran With Children), VA Form 21-0517-1.

r. Improved Pension Eligibility Verification Report (Surviving Spouse With No Children), VA Form 21-0518.

s. Improved Pension Eligibility Verification Report (Surviving Spouse With No Children), VA Form 21-0518-1.

t. Improved Pension Eligibility Verification Report (Child or Children), VA Form 21-0519C.

u. Improved Pension Eligibility Verification Report (Child or Children), VA Form 21-0519C-1.

v. Improved Pension Eligibility Verification Report (Surviving Spouse With Children), VA Form 21-0519S.

w. Improved Pension Eligibility Verification Report (Surviving Spouse With Children), VA Form 21-0519S-1.

OMB Control Number: 2900-0101.

Type of Review: Extension of a currently approved collection.

Abstract: The Eligibility Verification Reports are used to report changes in entitlement factors in VA's income-based benefit programs, pension and parents' Dependency and Indemnity Compensation (DIC). Any individual who has applied for or receives pension or parents' DIC must promptly notify VA in writing of any changes in entitlement factors.

An agency may not conduct or sponsor, and a person is not required to respond to a collection of information unless it displays a currently valid OMB control number. The Federal Register Notice with a 60-day comment period soliciting comments on this collection of information was published on November 23, 2001, at pages 58782-58783.

Affected Public: Individuals or households.

Estimated Annual Burden: 146,947 hours.

Estimated Average Burden Per Respondent: 30 minutes per report.

Frequency of Response: On occasion.

Estimated Number of Respondents: 293,894.

Dated: March 7, 2002.
By direction of the Secretary.
Donald L. Neilson,
Director, Information Management Service.

[FR Doc. 02-7312 Filed 3-26-02; 8:45 am]

BILLING CODE 8320-01-P